DEPARTMENT OF TRANSPORTATION

Coast Guard

33 CFR Part 165

[COTP Tampa 00-016]

RIN 2115-AA97

Safety Zone Regulations: Saint Pete Beach, FL

AGENCY: Coast Guard, DOT

ACTION: Temporary final rule.

SUMMARY: The Coast Guard is establishing a temporary safety zone closing the waters of Blind Pass, Pinellas County, Florida. The zone will be placed into effect and terminated at different times by a broadcast notice to mariners to protect recovery personnel and vessels in the vicinity of pollution response operations. Entry into this zone is prohibited unless authorized by the Captain of the Port.

DATES: This regulation becomes effective at 9 a.m., on March 9, 2000 through 9 a.m., on May 1, 2000.

FOR FURTHER INFORMATION CONTACT: Commanding Officer, Marine Safety Office Tampa, 155 Columbia Drive, Tampa, Florida 33606, Attention: Lieutenant Warren Weedon, or phone (813) 228-2189 ext 101.

SUPPLEMENTARY INFORMATION:

Regulatory Information

We did not publish a notice of proposed rulemaking (NPRM) for this regulation. Under 5 U.S.C. 553(b)(B) and 553(d)(3), the Coast Guard finds that good cause exists for not publishing an NPRM and making these regulations effective less than 30 days after the Federal Register publication. Publishing a Notice of Proposed Rulemaking and delaying the effective date would be contrary to national safety interests since immediate action is needed to minimize potential danger to the public as the updated information concerning the channel blockage was received only one day prior.

Background and Purpose

A permit was granted by the U. S. Army Corp of Engineers to conduct dredging operations in Blind Pass. During the dredging operations it was determined that some oil was buried in the pass. The Coast Guard is now conducting oil recovery operations and has determined that a safety zone is needed to ensure the safety of personnel engaged in recovery operations. The Coast Guard is establishing a temporary safety zone closing the waters of Blind Pass, Pinellas County, Florida. The zone will be placed into effect and terminated at different times by a broadcast notice to mariners to protect recovery personnel and vessels in the vicinity of pollution response operations. Entry into this zone is prohibited unless authorized by the Captain of the Port.

Regulatory Evaluation

This rule is not a significant regulatory action under section 3(f) of Executive Order 12866 and does not require an assessment of potential costs and benefits under section 6(a)(3) of the order. It has been exempted from review by the Office of Management and Budget under that order. It is not significant under the regulatory policies and procedures of the Department of Transportation (DOT) (44 FR 11040; February 26, 1979). The Coast Guard expects the economic impact of this proposal to be so minimal that a full regulatory evaluation under paragraph 10e of the regulatory policies and procedures of DOT is unnecessary. This regulation will only be in effect in a limited area of Saint Pete Beach.

Small Entities

Under the Regulatory Flexibility Act (5 U.S.C. 601-612 et seq.), we considered whether this proposed rule would have a significant economic impact on a substantial number of small entities. The term “Small entities” comprises small businesses and not for profit organizations that are independently owned and operated and are not dominant in their field and governmental jurisdictions with populations of less than 50,000.

The Coast Guard certifies under 5 U.S.C. 605(b) that this rule will not have a significant economic impact on a substantial number of small entities as the regulations will only be in effect in a limited area of Saint Pete Beach.

Assistance for Small Entities

Under section 213(a) of the Small Business Regulatory Enforcement Fairness Act of 1996 (Pub. L. 104-221), we offer to assist small entities in understanding the rule so that they could better evaluate its effects on them and participate in the rulemaking process. Small entities may contact the person listed under FOR FURTHER INFORMATION CONTACT for assistance in understanding and participating in this rulemaking. We also have a point of contact for commenting on actions by employees of the Coast Guard. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule contains no collection of information requirements under the Paperwork Reduction Act (44 U.S.C. 3501 et seq).

Federalism

We have analyzed this rule under Executive Order 13132 and have determined that this rule does not have implications for federalism under that order.

Unfunded Mandates Reform Act

The Unfunded Mandates Reform Act of 1995 (2 U.S.C. 1531—1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking disproportionately affect children.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or safety that may disproportionately affect children.

Environment

The Coast Guard has considered the environmental impact of this action and has determined under figure 2-1, paragraph 34(g) of Commandant Instruction M16475.1C, that this rule is categorically excluded from further environmental documentation.

List of Subjects in 33 CFR Part 165

Harbors, Marine Safety, Navigation (water), Reporting and Record keeping requirements, Safety measures, Waterways.

Temporary Regulations: In consideration of the foregoing, the Coast Guard amends Subpart C of Part 165 of title 33, Code of Federal Regulations, as follows:

PART 165—[AMENDED]

1. The authority citation for Part 165 continues to read as follows:

Authority: 33 U.S.C. 1231; 50 U.S.C. 191; 49 CFR 1.46 and 33 CFR 1.05-1(g), 6.04-1, 6.04-6, and 160.5.

2. Temporary § 165.T07-016 is added to read as follows:

§ 165.T07-016 Safety Zone; Tampa Bay, Florida

(a) Regulated area. A temporary fixed safety zone is established closing the entrance to Blind Pass, Saint Pete Beach, Florida from a line drawn across Blind Pass between Treasure Island and Long Key as defined by COLREGS Demarcation Line, 33 CFR 80.753 (a), to a line drawn 500 yards north, again crossing Blind Pass channel, during periods when oil spill recovery operations are being conducted in Blind Pass Channel.

(b) Periods of closure. The COTP will notify the maritime community and local agencies of periods when the safety zone is in effect by providing notice via telephone and/or Broadcast Notice to Mariners.

(c) Regulations. In accordance with the general regulations in 165.23 of this part, entry into this zone is prohibited to all vessels without the prior permission of the Coast Guard Captain of the Port.

(d) Dates. These regulations will remain in effect from between 9 a.m. on March 9, 2000, through 9 a.m. on May 1, 2000.

Dated: March 9, 2000.
D.M. Smith,
Commander, U.S. Coast Guard, Acting Captain of the Port, Tampa, Florida.

[FR Doc. 00-7750 Filed 3-28-00; 8:45 am]

BILLING CODE 4910-15-P